DEPARTMENT OF ENERGY

Federal Energy Regulatory Commission

Notice of Application Tendered for Filing With the Commission, Soliciting Additional Study Requests, and Establishing Procedures for Relicensing and a Deadline for Submission of Final Amendments

October 25, 2001.

Take notice that the following hydroelectric application has been filed with the Commission and is available for public inspection.

a. Type of Application: New Major License.

b. Project No.: 233-081.

c. Date Filed: October 19, 2001.

d. Applicant: Pacific Gas and Electric Company.

e. Name of Project: Pit 3, 4, and 5 Hydroelectric Project.

f. Location: On the Pit River, in Shasta County, near the community of Burney and the Intermountain towns of Fall River Mills and McArthur, California. The project includes 746 acres of lands of the United States, which are administered by the Forest Supervisor of the Shasta Trinity National Forest and the Forest Supervisor of the Lassen National Forest.

g. Filed Pursuant to: Federal Power Act 16 U.S.C. 791 (a)-825(r).

h. Applicant Contact: Mr. Randal Livingston, Lead Director, Hydro Generation Department, Pacific Gas and Electric Company, P.O. Box 770000, N11C, San Francisco, CA 94177, (415) 973-6950.

i. FERC Contact: John Mudre, (202) 219-1208 or john.mudre@ferc.fed.us.

j. Deadline for filing additional study requests: December 18, 2001.

All documents (original and eight copies) should be filed with: David P. Boergers, Secretary, Federal Energy Regulatory Commission, 888 First Street, NE., Washington, DC 20426. Additional study requests may be filed electronically via the Internet in lieu of paper. See 18 CFR 385.2001(a)(1)(iii) and the instructions on the Commission's web site (http://www.ferc.gov) under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Pit 3, 4, 5 Project consists of three hydraulically-connected developments, with a total of four dams, four reservoirs, three powerhouses, associated tunnels, surge chambers, and penstocks. The powerhouses contain nine generating units with a combined operating capacity of about 325 MW. No new construction is proposed.

The Pit 3 development consists of: (1) The 1,293-acre Lake Britton, with a gross storage capacity of 41,877 acre feet; (2) the Pit 3 Dam, with a crest length of 494 feet and a maximum height of 130 feet; (3) a concrete tunnel in two sections, 19 feet in diameter with a total length of about 21,000 feet; (4) a surge tank; (5) three penstocks about 10 feet in diameter and 600 feet in length; (6) a 47-foot by 194-foot reinforced concrete multilevel powerhouse; (7) three generating units, driven by three vertical Francis turbines, with a combined normal operating capacity of 70 MW; and (8) appurtenant facilities.

The Pit 4 development consists of: (1) The 105-acre Pit 4 Reservoir, with a gross storage capacity of 1,970 acre feet; (2) the Pit 4 Dam, consisting of a gravity type overflow section 203 feet in length with a maximum height of 108 feet and a slab-and-buttress type section 212 feet in length with a maximum height of 78 feet; (3) a 19-foot-diameter pressure tunnel with a total length of about 21,500 feet; (4) two 12-foot-diameter penstocks about 800 feet in length; (5) a four-level 58-foot by 155-foot reinforced concrete powerhouse; (6) two generating units, driven by two vertical Francis turbines, with a combined normal operating capacity of 95 MW; and (7) appurtenant facilities.

The Pit 5 development consists of: (1) The 32-acre Pit 5 Reservoir, with a gross storage capacity of 314 acre feet; (2) the Pit 5 Dam, with a concrete gravity overflow structure 340 feet in length and a maximum height of 67 feet; (3) the 19-foot-diameter Tunnel No. 1; (4) the 48-acre Pit 5 Tunnel Reservoir, with a gross storage capacity of 1,044 acre feet; (5) the Pit 5 Tunnel Reservoir Dam, approximately 3,100 feet long and 66 feet high; (6) the 19-foot-diameter Pit 5 Tunnel No. 2; (7) four steel penstocks about 8 feet in diameter and 1,400 feet in length; (8) a 56-foot by 266.5-foot reinforced concrete multilevel powerhouse; (9) four generating units, driven by four vertical Francis turbines, with a combined normal operating capacity of 160 MW; and (10) appurtenant facilities.

m. A copy of the application is on file with the Commission and is available for public inspection. This filing may also be viewed on the web at http://www.ferc.gov using the “RIMS” link—select “Docket#” and follow the instructions (call 202-208-2222 for assistance). A copy is also available for inspection and reproduction at the address in item h above.

n. With this notice, we are initiating consultation with the CALIFORNIA STATE HISTORIC PRESERVATION OFFICER (SHPO), as required by section 106 of the National Historic Preservation Act.

o. Procedural schedule and final amendments: The application will be processed according to the following milestones, some of which may be combined to expedite processing:

Notice of application has been accepted for filing;

Notice of NEPA Scoping (unless scoping has already occurred);

Notice of application is ready for environmental analysis;

Notice of the availability of the draft NEPA document;

Notice of the availability of the final NEPA document;

Order issuing the Commission's decision on the application.

Final amendments to the application must be filed with the Commission no later than 30 days from the issuance date of the notice of ready for environmental analysis.

David P. Boergers,
Secretary.

[FR Doc. 01-27335 Filed 10-30-01; 8:45 am]

BILLING CODE 6717-01-P